DEPARTMENT OF ENERGY

Federal Energy Regulatory Commission

[Docket Nos. RP93-162-010 and CP88-391-025]

Transcontinental Gas Pipe Line Corporation; Notice of Cash Out Report

October 31, 2000.

Take notice that on October 26, 2000, Transcontinental Gas Pipe Line Corporation (Transco) filed its annual report of cash-out purchases for the period August 1, 1999 through July 31, 2000. Transco states that the report is being filed to comply with the cash-out provisions in Section 15 of the General Terms and Conditions of Transco's FERC Gas Tariff.

Transco states that the report shows that for the annual cash-out period ending July 31, 2000, Transco had a net overrecovery of $11,422,274. Transco has carried forward a net underrecovery of $13,346,248 from the previous twelve-month period. This results in a net underrecovery cash-out balance of $1,923,974, excluding carrying charges, as of July 31, 2000.

Transco states that in accordance with Section 15 of its tariff it will carry forward such net underrecovery to offset any net overrecovery that may occur in future cash-out periods.

Any person desiring to protest said filing should file a protest with the Federal Energy Regulatory Commission, 888 First Street, NE., Washington, DC 20426, in accordance with Section 385.211 of the Commission's Rules and Regulations. All such protests must be filed on or before November 7, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Beginning November 1, 2000, comments and protests may be filed electronically via the internet in lieu of paper. See, 18 CFR 385.2001(a)(1)(iii) and the instructions on the Commission's web site at http://www.ferc.fed.us/efi/doorbell.htm.

David P. Boergers,
Secretary.

[FR Doc. 00-28382 Filed 11-3-00; 8:45 am]

BILLING CODE 6717-01-M